DEPARTMENT OF HEALTH AND HUMAN SERVICES

Indian Health Service

Request for Public Comment: 60-Day Information Collection: Indian Self-Determination and Education Assistance Act Contracts

AGENCY: Indian Health Service, HHS.

ACTION: Notice and request for comments. Request for extension of approval.

SUMMARY: In compliance with the Paperwork Reduction Act of 1995, the Indian Health Service (IHS) invites the general public to comment on the information collection titled, “Indian Self-Determination and Education Assistance Act Contracts,” Office of Management and Budget (OMB) Control Number 0917-0037. The IHS is requesting OMB to approve an extension for this collection, which expires on August 31, 2023.

DATES: Comment Due Date: July 10, 2023. Your comments regarding this information collection are best assured of having full effect if received within 60 days of the date of this publication.

ADDRESSES: Send your written comments or requests to obtain more information to Ms. Terri Schmidt, Director, IHS Office of Direct Services and Contracting Tribes, by email to Terri.Schmidt@ihs.gov.

SUPPLEMENTARY INFORMATION: This notice announces our intent to seek an extension of the collection already approved by OMB, and to solicit comments on specific aspects of the information collection. The purpose of this notice is to allow 60 days for public comment to be submitted to the IHS. A copy of the supporting statement is available at www.regulations.gov (see Docket ID IHS-2023-0001).

Information Collection Title: Indian Self-Determination and Education Assistance Act Contracts, 25 CFR part 900, 0917-0037.

Type of Information Collection Request: Extension of currently approved collection. Form Numbers: 0917-0037.

Need and Use of Information Collection: In 1975, Congress enacted the Indian Self-Determination and Education Assistance Act (ISDEAA) to authorize Tribes and Tribal organizations (T/TO) to assume control of certain Federal programs, e.g., health care programs that certain Federal agencies would otherwise provide to American Indians and Alaska Natives.

The T/TO that intend to establish a new or expanded Title I self-determination contract with the IHS are required to provide proposal information identified at 25 CFR 900.8, which describes what a contract proposal must contain. This information is used by the IHS to determine applicant eligibility, evaluate applicant capabilities, protect the service population, and safeguard Federal funds and resources.

Subpart C contains provisions relating to the initial contract proposal contents (i.e., 25 CFR 900.8). The proposal contents consist of required items that must be included in a proposal for a new or expanded program. These items include basic information about the T/TO and program to be contracted, such as: name and address; authorizing resolution; date of submission of proposal; description of geographical service area; estimated number of people to be served; brief statement of program functions, services or activities to be performed; description of the proposed program; financial, procurement, and property management standards; description of reports to be provided; staff qualifications, if any; budget information; and waiver information; as requested. The information is collected at the time the T/TO makes an initial application to contract a program.

Subpart F contains the minimum standards for the management systems used by the T/TO when carrying out a self-determination contract. Sections 900.40-44, 48-49, 53, 55, and 60 discuss the information and record keeping requirements of the T/TO regarding the financial, procurement, and property management standards.

Subpart G provides for the negotiation of all reporting and data requirements between the T/TO and the Secretary (e.g., 25 CFR 900.65). The information collected is directly related to the operation of the program and is negotiated on a contract by contract basis. The IHS uses the information to monitor contract operations and determine if satisfactory services are being provided. The information is collected and reported during the operation of the contract based on the terms negotiated in each contract.

Subpart I establishes procedures regarding the donation of excess and surplus Federal property to T/TO, and the acquisition of property with funds provided under a self-determination contract. This subpart addresses the procedures to be followed when the T/TO wish to acquire excess IHS property, and excess or surplus government property from other agencies (e.g., 25 CFR 900.97). This subpart also addresses the process for T/TO to request that real property be placed “in trust.” The IHS uses the information to determine what property the T/TO want to acquire and how the property will be used. The information is collected and reported when the T/TO submit a request for excess and surplus federal property.

Subpart J addresses the process by which the T/TO may contract for construction activities and sets forth minimum requirements for contract proposals (e.g., 25 CFR 900.110-133). Among other things, the subpart requires the T/TO to submit descriptions of standards when proposing to contract a construction project. These standards include use of licensed and qualified architects and engineers; applicable health and safety standards; adherence to applicable Federal, state, or Tribal building codes and engineering standards; structural integrity; accountability for funds; adequate competition for sub-contracting under Tribal or other applicable law; the commencement, performance, and completion of the contract; adherence to project plans and specifications (including any applicable Federal construction guidelines and manuals); the use of proper materials and workmanship; necessary inspection and testing; and a process for changes, modifications, stop work and termination of the work when warranted. In addition to the above, additional information is required when T/TO are proposing to contract design and construction activity.

Subpart L (25 CFR 900.150 et seq.) provides the appeal procedures available to the T/TO. Section 900.158 explains how to file a notice of appeal with the Interior Board of Indian Appeals (IBIA) and what the notice should contain. The IBIA receives the notice of appeal from the T/TO; and the IHS receives a copy of information sent to the IBIA; and section 900.166 provides instructions for submitting a written statement of objections concerning an Administrative Law Judge's decision. The information is collected and reported when the T/TO request an appeal conference, file a notice of appeal, or request an appeal time extension, or submit objections for an Administrative Law Judge's decision (i.e., 900.166).

Subpart N covers the process for post-award contract disputes (e.g., 25 CFR 900.215-230). Section 900.219 explains how the T/TO submit a Contract Disputes Act (CDA) claim. The IHS needs and uses the information to evaluate and approve or disapprove a CDA claim. The information is collected and reported as needed when such a claim is filed. The CDA, 41 U.S.C. 7101 et seq., sets forth the information required to be submitted for a claim. The regulations, including at 900.220, only restate those statutory requirements and do not require any additional information.

Affected Public: Federally recognized Indian Tribes and Tribal organizations.

Type of Respondents: Governments and individuals.

Estimated Number of Responses: 243.

Estimated Time per Response: An average of 30 hours per response.

Frequency of Response: Each time programs, functions, services, or activities are contracted from the IHS under the ISDEAA, currently 243 per year.

Estimated Total Annual Hour Burden: 7,290.

There are no capital costs, operating costs and/or maintenance costs to respondents.

Requests for Comments: Your written comments and/or suggestions are invited on one or more of the following points:

(a) Whether the information collection activity is necessary to carry out an agency function;

(b) Whether the agency processes the information collected in a useful and timely fashion;

(c) The accuracy of the public burden estimate (the estimated amount of time needed for individual respondents to provide the requested information);

(d) Whether the methodology and assumptions used to determine the estimates are logical;

(e) Ways to enhance the quality, utility, and clarity of the information being collected; and

(f) Ways to minimize the public burden through the use of automated, electronic, mechanical, or other technological collection techniques or other forms of information technology.

P. Benjamin Smith,
Deputy Director, Indian Health Service.

[FR Doc. 2023-09980 Filed 5-9-23; 8:45 am]

BILLING CODE 4165-16-P